DEPARTMENT OF COMMERCE

Economic Development Administration

Notice of Petitions by Firms for Determination of Eligibility To Apply for Trade Adjustment Assistance

AGENCY: Economic Development Administration, U.S. Department of Commerce.

ACTION: Notice and opportunity for public comment.

SUMMARY: Pursuant to section 251 of the Trade Act 1974, as amended, the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

SUPPLEMENTARY INFORMATION:

List of Petitions Received by EDA for Certification Eligibility To Apply for Trade Adjustment Assistance
[8/15/2017 through 8/23/2017]
Firm name | Firm address | Date accepted for investigation | Product(s)
Lemfco, Inc | 100 South Commerce Street, Galena, IL 61036 | 8/15/2017 | The firm manufactures iron castings of up to 70 pounds.
Twin Oaks Industries, Inc | 2001 West Grand Avenue, Salina, KS 67401 | 8/18/2017 | The firm manufactures customized metal fabricated products, primarily of carbon steel and aluminum steel.
Optics Technology, Inc | 3800 Monroe Avenue, Suite 6, Pittsford, NY 14534 | 8/16/2017 | The firm manufactures micro-optics and mechanics for high resolution imaging.
Mid-Mountain Materials, Inc | 2731 77th Avenue Southeast, Suite 100; Box 800, Mercer Island, WA 98040 | 8/18/2017 | The firm manufactures precision coated fiberglass fabric, high-temperature resistant textiles and thermal insulation materials.
RPM Industries, Inc. d/b/a Promold Plastics | 91 Main Street, Portland, CT 06480 | 8/23/2017 | The firm manufactures custom parts and molds.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Irette Patterson,
Program Analyst.

[FR Doc. 2017-18638 Filed 9-1-17; 8:45 am]

BILLING CODE 3510-WH-P